DEPARTMENT OF JUSTICE

Notice of Lodging of Consent Decree Under the Clean Water Act

Under 28 U.S.C. 50.7, notice is hereby given that on July 10, 2001, a proposed Consent Decree and Consent Order and Protocol in United States v. Murphy Farms, et al., Civil Action Nos. 7:98-CV-4-F(1), 7:98-CV-19-F(1), and 5:98-CV-209 F(1) was lodged with the United States District Court for the Eastern District of North Carolina.

In this action the United States sought civil penalties and injunctive relief from Murphy Farms, Inc., and D.M. Farms of Rose Hill, alleged operators of a facility that discharged pollutants without an National Pollutant Discharge Elimination System (“NPDES”) permit. The facility consisted of five hog farms joined by a common waste system. In December 1998, the District Court found the defendants liable for discharging hog waste into nearby streams on two occasions and ordered the defendants to apply for an NPDES permit. The Consent Decree resolves the United States' claim for penalties and injunctive relief relating to these and other unpermitted discharges, as well as a claim for injunctive relief. The Consent Decree provides for the payment of a $72,000 civil penalty, the use of buffer zones, improved agricultural practices, better training, and other prophylactic measures that will help prevent future discharges. The facility's operation will also be governed by a NPDES permit, which the State of North Carolina issued on March 19, 2001.

The United States entered this litigation as an intervener in a suit initially brought by the American Canoe Association, the Professional Paddlesports Association, and the Conservation Council of North Carolina (collectively, the “Citizen Plaintiffs”). The Citizen Plaintiffs participated in the negotiation of the Consent Decree and agree with its terms. The Citizen Plaintiffs and the defendants negotiated a separate agreement known as the Consent Order and Protocol, which is attached to the Consent Decree. Under this document, the Citizen Plaintiffs are not entitled to participate in the enforcement of the Consent Decree until the defendants' motions to have the Court reconsider its earlier rulings concerning standing and Gwaltney of Smithfield, Ltd. v. Chesapeake Bay Foundation, 484 U.S. 49 (1987), are resolved in Citizen Plaintiffs' favor. The Consent Order and Protocol provides that the Citizen Plaintiffs automatically become parties to the Consent Decree in the event that these issues are resolved in their favor. It also establishes a procedure for the resolution of those issues and the Citizen Plaintiffs' claim for attorneys' fees and litigation expenses.

The Department of Justice will receive for a period of thirty (30) days from the date of this publication comments relating to the Consent Decree and Consent Order and Protocol. Comments should be addressed to the Assistant Attorney General, Environment and Natural Resources Division, P.O. Box 7611, U.S. Department of Justice, Washington, DC 20044-7611, and should refer to United States v. Murphy Farms, et al., D.J. Ref. 90-­5-1-1-06326.

The Consent Decree and Consent Order and Protocol may be examined at the Office of the United States Attorney, 310 New Bern Avenue, Suite 800, Federal Building, Raleigh, North Carolina, and at U.S. EPA Region 4, 61 Forsyth Street, Atlanta, Georgia. A copy of the Consent Decree and Consent Order and Protocol may also be obtained by mail from the Consent Decree Library, P.O. Box 7611, U.S. Department of Justice, Washington, DC 20044-7611. In requesting a copy, please enclose a check in the amount of $12.50 (25 cents per page reproduction cost) payable to the Consent Decree Library.

Ellen Mahan,
Assistant Chief, Environmental Enforcement Section, Environment and Natural Resources Division.

[FR Doc. 01-19943 Filed 8-8-01; 8:45 am]

BILLING CODE 4410-15-M